DEPARTMENT OF TRANSPORTATION

Federal Highway Administration

[Docket No. FHWA-2021-0018]

Notice of Intent To Prepare an Environmental Impact Statement for a Proposed Highway Project; Cities of Chesapeake and Suffolk, Virginia

AGENCY: Federal Highway Administration (FHWA), Department of Transportation.

ACTION: Notice of intent to prepare an environmental impact statement.

SUMMARY: FHWA, in coordination with the Virginia Department of Transportation (VDOT), is issuing this notice of intent to solicit comment and advise the public, agencies, and stakeholders that an Environmental Impact Statement (EIS) will be prepared to study potential improvements to seven miles of Interstate 664 (I-664) and the Bowers Hill Interchange area at the confluence of I-664, I-64, I-264, U.S. Route 460, U.S. Route 58, U.S. Route 13 and Jolliff Road in the cities of Chesapeake and Suffolk, Virginia. Persons or agencies who may be affected by the proposed project are encouraged to comment on the information in this notice and the Supplementary Notice of Intent Document. All comments received in response to this Notice of Intent Document will be considered and any information presented herein, including the preliminary purpose and need, preliminary alternatives and identified impacts, may be revised in consideration of the comments.

DATES: Comments must be received by March 21, 2022.

ADDRESSES: This Notice of Intent (NOI) and the Supplementary NOI Document are available in the docket referenced above at http://www.regulations.gov and on the project website located at www.bowershillinterchange.com. The Supplementary NOI Document also will be mailed upon request. Interested parties are invited to submit comments by any of the following methods:

Website: For access to the documents, go to the Federal eRulemaking Portal located at http://www.regulations.gov or the project website located at www.bowershillinterchange.org. Follow the online instructions for submitting comments.

Fax: 804-775-3356.

Mailing address or for hand delivery or courier: Federal Highway Administration, 400 North 8th Street, Suite 750, Richmond, Virginia 23219.

Email address: Eric.Rothermel@dot.gov.

All submissions should include the agency name and the docket number that appears in the heading of this Notice. All comments received will be posted without change to http://www.regulations.gov, including any personal information provided. A summary of the comments received will be included in the Draft EIS.

FOR FURTHER INFORMATION CONTACT: FHWA: Eric Rothermel, Environmental Protection Specialist, Federal Highway Administration—Virginia Division, 400 North 8th Street, Suite 750, Richmond, VA 23219-4825; email: Eric.Rothermel@dot.gov; 804-775-3347. VDOT: Scott Smizik, Assistant Environmental Division Director, Virginia Department of Transportation, 1401 East Broad Street, Richmond, VA, 23219; email: Scott.Smizik@vdot.virginia.gov; 804-371-4082.

SUPPLEMENTARY INFORMATION: It is important to note that the FHWA and VDOT are committed to public involvement in this project. All public comments received in response to this notice will be considered and potential revisions made to the information presented herein as appropriate. The environmental review of transportation improvement alternatives for the Bowers Hill Interchange area and approximately seven miles of I-664 will be conducted in accordance with the requirements of the National Environmental Policy Act (NEPA) of 1969, as amended (42 U.S.C. 4321, et seq.), 23 U.S.C. 139, Council on Environmental Quality (CEQ) regulations implementing NEPA (40 CFR 1500-1508), FHWA regulations implementing NEPA (23 CFR 771.101-771.139) and all applicable Federal, State, and local governmental laws and regulations.

Background. In 2017, the Hampton Roads Transportation Accountability Commission (HRTAC) designated funding to study the Bowers Hill Interchange and included it as a priority project. FHWA and VDOT proceeded with an Environmental Assessment (Bowers Hill EA) in February 2018 that included a study area limited to the Bowers Hill Interchange area, located at the junction of Interstates 664, 264, and 64, in addition to Route 13/58/460 and Jolliff Road in Chesapeake, Virginia.

The Bowers Hill EA, which was subject to Virginia's NEPA/Section 404 Merged Process Agreement (merged process), evaluated two alternatives in addition to a no-build scenario—Alternative 1, which analyzed eastbound and westbound braided ramps; and Alternative 2, which considered full reconstruction of the Bowers Hill Interchange.

Consistent with the merged process, Cooperating Agencies with a concurring role concurred upon Environmental Analysis Methodologies, Purpose and Need, and a Range of Alternatives. In April 2019, FHWA approved the Bowers Hill EA for public availability. A public hearing was held on May 9, 2019. It is important to note that the concurring role in the merged process has coordination points for the Cooperating Agencies. These coordination points are intended to signify that the information is sufficient for each agency's purposes in the fulfillment of their respective statutory requirements. The concurring roles at these points does not signify that public comments will not be considered, and changes made as a result of such consideration.

In early 2020, the Hampton Roads Transportation Planning Organization, in consultation with VDOT and HRTAC, formally expanded the study area to include seven additional miles north along I-664 to the College Drive Interchange and expanded the scope of the study to consider planned and existing express lanes in the region. The outcome of this expansion was an acknowledgement that the new scope of study could result in a significant impact on the human environment. Based on these actions, VDOT did not pursue a NEPA decision on the Bowers Hill EA, but instead began to plan pre-Notice of Intent (NOI) activities to support what was assumed would be an EIS for the expanded scope.

The following information provided in the NOI is supplemented with more detail in the Supplemental NOI Document.

(a) The Preliminary Purpose and Need for the Proposed Action

The purpose of the Bowers Hill Study is to reduce current congestion, improve travel reliability, and provide additional travel choice on I-664 from and including the Bowers Hill Interchange to College Drive.

The following needs have been identified for the study:

• Reduce Congestion—current and future travel demand exceed capacity that causes congestion and gridlock on I-664 in the study area;

• Improve Travel Reliability—current and future congestion will increase travel time while reducing the reliability of trips on I-664 in the study area; and

• Provide Additional Travel Choice—current and future lack of roadway travel choices exacerbates congestion and reduces travel reliability.

The preliminary Purpose and Need was developed with agency coordination and public input, as described in section e; see the Supplemental NOI Document for details on the development of the Purpose and Need. The U.S. Environmental Protection Agency (USEPA) and the U.S. Army Corps of Engineers (USACE) concurred with the preliminary Purpose and Need in December 2020. Agencies and the public are invited to comment on the Purpose and Need. The Purpose and Need statement and supporting documentation, including data and public input summary, will be available in the Draft EIS. The Purpose and Need may be revised based on comments received during the comment period on this notice.

(b) A Preliminary Description of the Proposed Action and Alternatives the Environmental Impact Statement Will Consider

The proposed action is anticipated to include improvements to the Bowers Hill Interchange and approximately seven miles of I-664 in the cities of Chesapeake and Suffolk, Virginia. Agencies and the public are invited to comment on the Range of Alternatives for the proposed action. Additional information on the Range of Alternatives is in the Supplementary NOI Document. The Range of Alternatives proposed to be considered in the EIS are the following:

No-Build

In accordance with the Council on Environmental Quality's regulations implementing NEPA (40 CFR 1502.14(c)), the No-Build Alternative will be retained for detailed study and will serve as a benchmark for comparison with the build alternatives. The No-Build Alternative would retain the existing configuration of I-664 in the study area, including interchanges, access roads and ramps. The No-Build Alternative assumes the I-64 High Rise Bridge project including express lanes up to the south portion of the Bowers Hill Interchange, which is under construction, will be completed.

One Managed Lane and Drivable Shoulder

This alternative includes adding one full-time managed lane to each direction of I-664 throughout the study area, providing a total of six lanes. This alternative also includes interchange (including the Bowers Hill Interchange) and bridge improvements to accommodate the additional lane and a part-time drivable shoulder as part of a managed lane system. This alternative would meet purpose and need by accommodating travel demand, reducing congestion, improving travel reliability, and providing travel choice.

Two Managed Lanes

This alternative includes adding two full-time managed lanes to each direction of I-664 throughout the study area, providing a total of eight lanes. Interchange (including the Bowers Hill Interchange) and bridge improvements to accommodate the additional lanes are included in this alternative. This alternative would meet the purpose and need by accommodating travel demand, reducing congestion, improving travel reliability, and providing travel choice.

Concepts Considered but Proposed To Not Be Retained for Consideration in the EIS

Addition of One General Purpose Lane

This concept would include the addition of one General Purpose (GP) lane to each direction of I-664 throughout the study area, providing a total of six GP lanes. Two options for this concept include (1) Route 58 braided ramps and (2) full reconstruction of the Bowers Hill Interchange. This concept is proposed to not be retained because it does not provide additional travel choice, does not separate regional/through traffic from weaving, merging, and diverging at congested interchanges, and would not be consistent with regional transportation plans.

Addition of Two General Purpose Lanes

This concept would include addition of two additional GP travel lanes to each direction of I-664 throughout the study area, providing a total of eight GP lanes. Two options for this concept include (1) Route 58 braided ramps and (2) full reconstruction of the Bowers Hill Interchange. This concept is proposed to not be retained because it does not provide additional travel choice, does not separate regional/through traffic from weaving, merging, and diverging at congested interchanges, and would not be consistent with regional transportation plans.

Collector-Distributor (C-D) System

Under this concept, new lanes separated from the mainline would be provided between interchanges. A C-D system's purpose is to move vehicle lane-changing, weaving and speed reduction away from the high-speed traffic on the freeway mainline. This concept is proposed to not be retained because it does not provide additional travel choice, does not address mainline congestion, has a larger footprint and higher structure costs than other mainline improvement concepts, and is not consistent with regional transportation plans.

Transportation System Management (TSM)/Transportation Demand Management (TDM) Improvements

TSM/TDM improvements are operational improvements that do not necessarily involve physical changes to infrastructure but rather maximize the efficiency of the current transportation system or reduce the demand for travel on the system through the implementation of low-cost improvements. Examples of TSM activities include the addition of turn lanes, optimized signalization at intersections, and electronic Intelligent Transportation Systems. Examples of TDM activities include ride sharing, van and carpooling, installation of park and ride facilities, and encouragement of teleworking.

Stand-alone TSM/TDM improvements are proposed to not be retained because they would not provide additional travel choice or reduce mainline congestion. TSM/TDM improvements could be included as part of a Preferred Alternative and are not precluded from being implemented in conjunction with other improvements.

Transit-Only Improvements

Transit-only improvements considered include dedicated rail or bus transit facilities along I-664. This concept is proposed to not be retained because stand-alone transit improvements would not substantially reduce congestion or improve travel reliability, and it is not consistent with regional transportation plans.

The above preliminary Range of Alternatives proposed to be retained for consideration in the EIS were concurred upon by USACE and USEPA on May 12, 2021. The alternatives would meet the preliminary Purpose and Need, detailed in section a. The alternatives to be retained will be finalized after the consideration of comments received during the comment period on this Notice, and they will be documented in the Draft EIS. The alternatives may be revised based on the consideration of public comments. The concepts not retained will also be documented in the Draft EIS. See the Supplemental NOI Document for a more detailed description of the development of the preliminary Range of Alternatives.

(c) Brief Summary of Expected Impacts

The EIS will evaluate the potential social, economic, and environmental effects resulting from the implementation of the build alternatives and the no build alternative. The following resources are the most sensitive resources in the project area and will be evaluated closely by FHWA and VDOT:

• Wetlands and Waters of the U.S.: Both build alternatives would require fill and removal from Waters of the U.S. and impacts to wetlands considered to be jurisdictional which will require a permit from the U.S. Army Corps of Engineers (USACE) for the discharge of dredged or fill material into Waters of the U.S., including wetlands.

• Relocations: The build alternatives may require approximately 95 relocations. VDOT and FHWA will work closely with the impacted stakeholders and designers to reduce the number of relocations.

• Environmental Justice: There is the potential for impacts to communities eligible for consideration as environmental justice communities that are low-income and minority due to right-of-way requirements, increases in noise, or other environmental factors. FHWA and VDOT will work closely with the community to avoid, minimize and mitigate these impacts.

The EIS will evaluate the expected impacts and benefits to the known resources above, as well as the following resources: Land use and right-of-way, farmland, social and community resources, economics, air quality, transportation, traffic noise, ecosystem resources (wildlife and threatened and endangered species), historic Section 4(f) properties, hazardous waste sites, and visual resources. The level of review of the identified resources for the EIS will be commensurate with the anticipated effects to each resource from the proposed project and will be governed by the statutory or regulatory requirements protecting those resources.

The analyses and evaluations conducted for the EIS will identify the potential for effects; avoidance measures; whether the anticipated effects would be adverse; and mitigation measures for adverse effects. Additional information on the expected impacts is provided in the Supplementary NOI document available for review in the docket established for this project and on the project website as noted in the ADDRESSES section. Comments on the expected impacts to be analyzed in the DEIS are welcomed during the NOI comment period.

Agencies, stakeholders, and the public are invited to comment on the expected impacts. The environmental impact analysis will not begin until the Purpose and Need, Range of Alternatives and impact categories are finalized based on public comment on this notice. The identification of impacts may be revised due to the consideration of public comments. See the Supplementary NOI Document for a more detailed description of the Summary of Expected Impacts. The studies to identify the impacts, as well as the analyses of impacts from the retained alternatives, will be presented in the Draft EIS.

(d) Anticipated Permits and Other Authorizations

A Clean Water Act Section 404 permit decision from the USACE is anticipated on December 31, 2035. Other likely Federal and State authorizations include the Virginia Marine Resources Commission (VMRC) Subaqueous Bottoms And Tidal Wetlands Permit on December 31, 2035, a Virginia Department of Environmental Quality (VDEQ) Individual Permit on December 31, 2035, Section 305 Essential Fish Habitat Permit on December 31, 2035, and a Coastal Zone Consistency Determination on December 31, 2035. Per 23 U.S.C. 139(d)(10), the aforementioned permits and authorizations should be completed by no later than 90 days after the issuance of the Record of Decision. However, for this project VDOT has requested in accordance with 23 U.S.C. 139(d)(10)(C)(ii) that those permits and authorizations follow a different timeline because the construction date is not expected until 2035 or later.

Section 7 consultation under the Endangered Species Act is expected to be concluded on May 16, 2023, and Section 106 consultation under the National Historic Preservation Act is anticipated to be concluded on August 9, 2022. See the Supplemental NOI Document for more detail on the anticipated permits and other authorizations.

(e) Scoping and Public Review

Agency Scoping

In July 2020 as part of initial NEPA scoping to determine the class of action, VDOT and FHWA identified and invited agencies who would likely serve as Participating, Cooperating, and Cooperating/Concurring Agencies for the new study. These agencies are largely the same entities involved in the preparation of the Bowers Hill EA.

Beginning in August 2020, VDOT and FHWA began to brief the likely Participating, Cooperating, and Cooperating/Concurring Agencies on initial NEPA scoping activities to support the study. Consistent with the merged process, USACE and USEPA agreed to provide concurrence on key study milestones (Environmental Analysis Methodologies, Purpose and Need, and Range of Alternatives) as part of initial NEPA scoping. Agencies and the public are invited to comment on the Environmental Analysis Methodologies, Purpose and Need, and Range of Alternatives for the proposed action.

Agency coordination up to this point has been conducted primarily through VDOT's monthly NEPA Agency Coordination Meeting, to which all likely Participating, Cooperating and Cooperating/Concurring Agencies are invited. More information on these meetings is available in the Supplemental NOI Document, including presentations and meeting summaries. A brief summary of agency coordination is included below.

August 2020

• Bowers Hill Interchange Improvements Study introduction;

• Discussion on proposed Environmental Analysis Methodologies. The Environmental Analysis Methodologies are available in the Supplemental NOI Document.

September 2020

• USACE and USEPA concurrence on Environmental Analysis Methodologies;

• Introduction to Purpose and Need process and potential Purpose and Need elements as described in section a above.

October 2020

• Agency update on the Purpose and Need survey;

• Review of data to inform potential Purpose and Need elements.

November 2020

• Presentation on final results of the Purpose and Need survey;

• Continued discussion on data and information to support potential Purpose and Need elements.

December 2020

• USACE and USEPA concurrence on Preliminary Purpose and Need;

• Introduction of range of concepts;

• Introduction of study schedule.

January 2021

• Study schedule discussion; continued consideration of the range of concepts;

• Discussion of known resources in the study area.

February 2021

• Citizen comment opportunity briefing; continued discussion of the range of concepts.

March 2021

• Agency update on citizen comment opportunity;

• Continued discussion of the range of concepts; introduction to permitting approach.

April 2021

• Final update on citizen comment opportunity;

• VDOT recommendation on the Preliminary Range of Alternatives;

• Agency input on permitting assumptions.

May 2021

• USACE and USEPA concurrence on the Preliminary Range of Alternatives;

• Next steps.

As of the date of this notice, the USACE and the USEPA have accepted the role of Cooperating/Concurring Agencies under the merged process. An Agency Coordination Plan was completed that established a framework for coordination among the Federal, State, and local agencies participating in the study. The draft Agency Coordination Plan is in the Supplemental NOI Document.

Public Review

As indicated above, VDOT has conducted a purpose and need survey as well as held a citizen comment opportunity. The project website will be updated with an informational video summarizing the study progress to date and next steps. A 30-day comment period is being held in association with this NOI. Comments may be submitted according to the instructions in the ADDRESSES section of this Notice. Interested persons can sign up to receive email announcements, notifications, and newsletters on the above project website. The scoping process for this EIS will conclude at the end of the 30-day comment period.

Public hearings will be held during the course of the study, as described below. Generally, the locations, dates, and times for each public hearing will be publicized through the VDOT website (www.bowershillinterchange.com) and in newspapers with local and regional circulation, including the Suffolk News Herald, The Virginian-Pilot, and Legacy Hampton Roads. Materials will be available at the meetings in English and Spanish and oral and written comments will be solicited.

Public Hearing on a Recommended Preferred Alternative

A public hearing on VDOT's Recommended Preferred Alternative (RPA) is required by the Code of Virginia to inform the Virginia Commonwealth Transportation Board (CTB), which is authorized by the Code of Virginia to make location decisions for highway projects, including as part of NEPA studies.

Several media will be used to advertise the public hearing on the RPA, including but not limited to newspaper advertisements, postcards sent to each property within the study area, a social media campaign, email, and continued updates to the study website.

Public Hearing on the Draft EIS

Notice of availability of the Draft EIS for public and agency review will be published in the Federal Register and through other methods which will identify where interested parties can go to review a copy of the Draft EIS. The public hearing will be conducted by VDOT and announced a minimum of 15 days in advance. VDOT will provide information for the public hearing, including the location, date, and time for the meeting through a variety of means including the VDOT website (www.bowershillinterchange.com) and by newspaper advertisement.

(f) A Schedule for the Decision-Making Process

Following the issuance of this notice, FHWA and VDOT will coordinate with the Participating, Cooperating, and Cooperating/Concurring Agencies to develop study documentation and the Draft EIS.

• The Draft EIS is anticipated to be issued in August 2022.

• The combined Final EIS and Record of Decision is anticipated in November 2023.

• A Section 404 permit decision from the USACE is expected in December 2035.

See the Supplemental NOI Document for additional schedule details.

(g) Request for Identification of Potential Alternatives, Information, and Analyses Relevant to the Proposed Action

To ensure that a full range of issues related to the study are addressed and all potential issues are identified, FHWA invites comments and suggestions from all interested parties. The project team requests comments and suggestions on potential alternatives and impacts, and the identification of any relevant information, studies, or analyses of any kind concerning impacts affecting the quality of the human environment. Any information presented herein, including the preliminary purpose and need, preliminary range of alternatives and identification of impacts may be revised after consideration of the comments. The purpose of this request is to bring relevant comments, information, and analyses to the agency's attention, as early in the process as possible, to enable the agency to make maximum use of this information in decision making. Comments may be submitted according to the instructions in the ADDRESSES section of this Notice.

(h) Contact Information

FHWA: Eric Rothermel, Environmental Protection Specialist, Federal Highway Administration, 400 North 8th Street, Suite 750, Richmond, VA 23219-4825; email: Eric.Rothermel@dot.gov; (804) 775-3342.

VDOT: Scott Smizik, Assistant Environmental Division Director, Virginia Department of Transportation, 1401 E Broad Street, Richmond, VA 23219; email: Scott.Smizik@vdot.virginia.gov; (804) 371-4082.

(Catalog of Federal Domestic Assistance Program Number 20.205, Highway Planning and Construction. The regulations implementing Executive Order 12372 regarding intergovernmental consultation on Federal programs and activities apply to this program.)

Authority: 42 U.S.C. 4321 et seq.; 23 CFR part 771.

Issued on: February 11, 2022.
Thomas L. Nelson, Jr.,
Division Administrator, Federal Highway Administration, Richmond, Virginia.

[FR Doc. 2022-03397 Filed 2-17-22; 8:45 am]

BILLING CODE 4910-22-P